DEPARTMENT OF AGRICULTURE

Food Safety and Inspection Service

[Docket No. FSIS-2014-0037]

National Advisory Committee on Microbiological Criteria for Foods

AGENCY: Food Safety and Inspection Service, USDA.

ACTION: Notice of public meeting.

SUMMARY: This notice is announcing that the National Advisory Committee on Microbiological Criteria for Foods (NACMCF) will hold a meeting of the full Committee by an audio conference call that is open to the public on November 17, 2014. The Committee will continue its discussions on (1) microbiological criteria as indicators of poor process control or insanitary conditions, and (2) control strategies for reducing foodborne transmission of Norovirus infections. After further discussion the committee plans to adopt its final recommendations.

DATES: The full Committee will hold a meeting by telephone conference on Monday, November 17, 2014, from 2:00 p.m. to 5:00 p.m. EST.

ADDRESSES: The November 17, 2014, meeting will be held by telephone. Please contact Karen Thomas-Sharp at the address below to register for the meeting: USDA, FSIS, Office of Public Health Science, Stop 3777, Patriots Plaza 3, Floor 9-47, 1400 Independence Avenue SW., Washington, DC 20250, or by phone (202) 690-6620, fax (202) 690-6334, or email: Karen.thomas-sharp@fsis.usda.gov.

All documents related to the full Committee meeting will be available for public inspection in the FSIS Docket Room, USDA, at Patriots Plaza 3, 355 E. Street SW., Room 8-164, Washington, DC 20250 between 8:30 a.m. and 4:30 p.m., Monday through Friday, as soon as they become available. The NACMCF documents will also be available on the Internet at http://www.fsis.usda.gov/wps/portal/fsis/topics/regulations/federal-register/federal-register-notices.

FSIS will finalize the agenda on or before the meeting and post it on the FSIS Web page at http://www.fsis.usda.gov/wps/portal/fsis/newsroom/meetings. Please note that the meeting agenda is subject to change due to the time required for Committee discussions; thus, sessions could end earlier or later than anticipated. Please plan accordingly if you would like to attend or participate in a public comment period.

The official meeting minutes of the November 17, 2014 full Committee meeting, when they become available, will be kept in the FSIS Docket Room at the above address and will also be posted on http://www.fsis.usda.gov/wps/portal/fsis/topics/data-collection-and-reports/nacmcf/meetings/nacmcf-meetings.

FOR FURTHER INFORMATION CONTACT: Persons interested in registering to attend the meeting, making a presentation, submitting technical papers, or providing comments at the November 17, 2014 plenary session should contact Karen Thomas-Sharp, phone (202) 690-6620, fax (202) 690-6334, email: Karen.thomas-sharp@fsis.usda.gov or at the mailing address above. Persons requiring special accommodations for this phone conference (voice and TTY) should notify Ms. Thomas-Sharp by November 10, 2014.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The charter for the NACMCF is available on the FSIS Web page at http://www.fsis.usda.gov/wps/portal/fsis/topics/data-collection-and-reports/nacmcf/committee-charter/charter.

The NACMCF provides scientific advice and recommendations to the Secretary of Agriculture and the Secretary of Health and Human Services on public health issues relative to the safety and wholesomeness of the U.S. food supply, including development of microbiological criteria, as well as the review and evaluation of epidemiological and risk assessment data and methodologies for assessing microbiological hazards in foods. The Committee also provides scientific advice and recommendations to the Food and Drug Administration, the Centers for Disease Control and Prevention, and the Departments of Commerce and Defense.

Mr. Brian Ronholm, Deputy Under Secretary for Food Safety, USDA, is the Committee Chair; Mr. Michael Landa, Acting Director of the Food and Drug Administration's Center for Food Safety and Applied Nutrition (CFSAN), is the Vice-Chair; and Dr. James Rogers, FSIS, is the Executive Secretary.

Meeting Agenda

At its November 17, 2014, meeting, the full Committee will continue discussions on:

Microbiological criteria as indicators of poor process control or insanitary conditions, and

Control strategies for reducing foodborne transmission of Norovirus infections.

The Committee took up the first topic in response to a Department of Defense (DoD) request for guidance on refined microbiological and other possible criteria for better evaluating process control and insanitary conditions at food production facilities.

The second topic responds to a request for guidance on a unified approach to reducing illness from human noroviruses (HuNoVs). FSIS, the Food and Drug Administration, the Centers for Disease Control and Prevention, and the DoD Veterinary Services Activity (DoDVSA) all sought this guidance.

Documents Reviewed by NACMCF

FSIS intends to make available to the public all materials reviewed and considered by the full Committee of NACMCF regarding its deliberations. Generally, these materials will be made available as soon as possible after the full Committee meeting. Further, FSIS intends to make these materials available in electronic format on the FSIS Web page (www.fsis.usda.gov), as well as in hard copy format in the FSIS Docket Room. FSIS will make the materials available at the start of the full Committee meeting if there is sufficient time in advance to do so.

Disclaimer: NACMCF documents and comments posted on the FSIS Web site are electronic conversions from a variety of source formats. In some cases, document conversion may result in character translation or formatting errors. The original document is the official, legal copy.

In order to meet the electronic and information technology accessibility standards in Section 508 of the Rehabilitation Act, NACMCF may add alternate text descriptors for non-text elements (graphs, charts, tables, multimedia, etc.). These modifications only affect the Internet copies of the documents.

Copyrighted documents will not be posted on the FSIS Web site, but will be available for inspection in the FSIS Docket Room.

Additional Public Notification

FSIS will announce this notice online through the FSIS Web page located at http://www.fsis.usda.gov/wps/portal/fsis/topics/regulations/federal-register/federal-register-notices.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives, and notices. Customers can add or delete subscriptions themselves, and have the option to password protect their accounts.

USDA Nondiscrimination Statement USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on November 4, 2014
Alfred V. Almanza,
Acting Administrator.

[FR Doc. 2014-26517 Filed 11-6-14; 8:45 am]

BILLING CODE 3410-DM-P